DEPARTMENT OF TRANSPORTATION

Federal Highway Administration

Environmental Impact Statement: Shelby County, TN

AGENCY: Federal Highway Administration (FHWA), DOT.

ACTION: Notice of Intent.

SUMMARY: The FHWA is issuing this notice to advise the public that an Environmental Impact Statement will be prepared for the improvement of North Second Street in Memphis, Tennessee. The project begins at Interstate 40 and extends north to the intersection of U.S. 51 and Whitney Avenue.

The FHWA issued a notice to advise the public that the Notice of Intent published on November 7, 2002, to prepare an Environmental Impact Statement (EIS) for the proposed North Second Street project in Memphis, Tennessee was being rescinded. This Notice to rescind the previously published Notice of Intent was published in the Federal Register on Wednesday, December 24, at 73 FR 79203.

An EIS has not been completed for this proposed project since the original NOI was issued to the Federal Register on November 7, 2002. Since the limits of the project have been extended and other changes have occurred, a new EIS will be prepared.

FOR FURTHER INFORMATION CONTACT: Mr. Charles J. O'Neill, Planning and Program Management Team Leader, Federal Highway Administration, Tennessee Division Office, 640 Grassmere Park Road, Suite 112, Nashville, TN 37211, Telephone: (615) 781-5772.

SUPPLEMENTARY INFORMATION: The project would improve North Second Street and North Third Street to form a one-way pair from I-40 to Chelsea Avenue and would construct a four-lane two-way roadway from Chelsea Avenue to the intersection of U.S. 51 and Whitney Avenue north of downtown Memphis. Segments of the proposed project will follow existing streets while a segment north of the Wolf River will be on new location. The length of the proposed improvement is approximately 4.0 miles.

Alternatives to be considered are (1) No-Build; (2) Transportation System Management (TSM) activities; (3) Mass Transit; (4) one build alternative; and other alternatives that may arise from public and agency input.

Early coordination letters describing the proposed action and soliciting comments have been sent to Federal, State, and local officials and agencies, as well as private organizations and citizens who have expressed or are known to have an interest in the proposed project.

Two scoping meetings have been held in the project corridor with Federal, State and local agencies and officials; private organizations, citizens, and interest groups, giving them an opportunity to provide input into the Environmental Impact Statement and identify issues of concern.

Four early public involvement meetings have been conducted in the project corridor to solicit comments from the local community, as well as to inform low income and minority families of the proposed project and afford them an opportunity to ask questions and express their opinions on the project.

A corridor Public Hearing will be held upon completion of the Draft Environmental Impact Statement and public notice will be given of the time and place of the hearing. The Draft EIS will be available for public and agency review and comment prior to the public hearing.

To ensure that a full range of issues related to this proposed action are identified and taken into account, comments and suggestions are invited from all parties. Comments or questions concerning this proposed action and the EIS should be directed to the FHWA contact person identified above at the address provided.

(Catalog of Federal Domestic Assistance Program Number 20.205, Highway Planning and Construction. The regulations implementing Executive Order 12372 regarding intergovernmental consultation on Federal Programs and activities apply to this proposed program.)

Issued on: January 29, 2009.
Charles J. O'Neill,
Planning and Program Mgmt. Team Leader, Nashville, TN.

[FR Doc. E9-2449 Filed 2-4-09; 8:45 am]

BILLING CODE 4910-22-P